DEPARTMENT OF LABOR

Employment and Training Administration

[TA-W-80,286]

Affinity Express, Inc., a Wholly-Owned Subsidiary of LiveIT Investment, Ltd, a Member of the Ayala Group of Companies, Including On-Site Leased Workers From Creative Group, Including Workers Whose Unemployment Insurance (UI) Wages Are Reported Through Staff Management, Inc., Columbus, OH; Amended Revised Determination on Reconsideration

In accordance with Section 223 of the Trade Act of 1974, as amended (“Act”), (19 U.S.C. 2273), the Department of Labor issued a Revised Determination on Reconsideration on December 15, 2011, applicable to workers of Affinity Express, Inc., a wholly-owned subsidiary of LiveIT Investment, LTD, a member of Ayala Group of Companies, including on-site leased workers from Creative Group, Columbus, Ohio. The workers' firm supplies print and advertising services. The revised notice was published in the Federal Register on December 29, 2011(76 FR 81991).

At the request of the State agency, the Department reviewed the certification for workers of the subject firm. New information shows that Staff Management, Inc. provides payroll services for the Columbus, Ohio location of Affinity Express, Inc., a wholly-owned subsidiary of LiveIT Investment, LTD, a member of the Ayala Group of Companies. Some workers separated from employment at the Columbus, Ohio location of the subject firm had their wages reported through a separate unemployment insurance (UI) tax account under the name Staff Management, Inc. Accordingly, the Department is amending this revised determination to include workers of the subject firm whose unemployment insurance (UI) wages are reported through Staff Management, Inc.

The intent of the Department's certification is to include all workers of the subject firm who were adversely affected by the shift in services from a foreign country the supply of services that is like or directly competitive to the printing and advertising services supplied by the workers of the subject firm.

The amended notice applicable to TA-W-80,286 is hereby issued as follows:

All workers of Affinity Express, Inc., a wholly-owned subsidiary of LiveIT Investment, LTD, a member of the Ayala Group of Companies, including on-site leased workers from Creative Group, including workers whose unemployment insurance (UI) wages are reported through Staff Management, Inc., Columbus, Ohio, who became totally or partially separated from employment on or after July 12, 2010, through December 15, 2013, are eligible to apply for adjustment assistance under Section 223 of the Trade Act of 1974, and are also eligible to apply for alternative trade adjustment assistance under Section 246 of the Trade Act of 1974.

Signed at Washington, DC, this 3rd day of February 2012.
Del Min Amy Chen,
Certifying Officer, Office of Trade Adjustment Assistance.

[FR Doc. 2012-3926 Filed 2-17-12; 8:45 am]

BILLING CODE 4510-FN-P